DEPARTMENT OF TRANSPORTATION

Pipeline and Hazardous Materials Safety Administration

[Docket No. PHMSA-2025-0078]

Pipeline Safety: Information Collection Activities

AGENCY: Pipeline and Hazardous Materials Safety Administration (PHMSA), DOT.

ACTION: Notice and request for comments.

SUMMARY: In compliance with the Paperwork Reduction Act of 1995 (44 United States Code (U.S.C.) § 3501 et seq.), this notice announces that the information collection requests abstracted below are being forwarded to the Office of Management and Budget (OMB) for review and comment. A Federal Register notice with a 60-day comment period soliciting comments on the information collections was published on July 15, 2025.

DATES: Interested persons are invited to submit comments on or before December 29, 2025.

ADDRESSES: The public is invited to submit comments regarding these information collection requests, including suggestions for reducing the burden, to Office of Management and Budget (OMB), Attention: Desk Officer for the Office of the Secretary of Transportation, 725 17th Street NW, Washington, DC 20503. Comments can also be submitted electronically at www.reginfo.gov/public/do/PRAMain.

FOR FURTHER INFORMATION CONTACT: Angela Hill by email at angela.hill@dot.gov.

SUPPLEMENTARY INFORMATION:

I. Background

Title 5, Code of Federal Regulations (CFR) § 1320.8(d), requires the Pipeline and Hazardous Materials Safety Administration (PHMSA) to provide interested members of the public and affected agencies the opportunity to comment on information collection and recordkeeping requests before they are submitted to OMB for approval. In accordance with this regulation, on July 15, 2025, PHMSA published a Federal Register notice (90 FR 31748) with a 60-day comment period soliciting comments on its intent to request OMB's renewed approval of the information collection requests that are due to expire in 2026.

During the 60-day comment period, PHMSA received comment from an anonymous commenter and a joint comment from the American Gas Association and the American Public Gas Association (AGA Joint Comment) pertaining to the proposed renewal of certain information collections. The AGA Joint Comment addressed: 1. New Customer Notifications for Excess Flow Valves; 2. Notification Requirements for Gas Transmission Pipelines; and 3. Amendments to Annual Report for Gas Distribution Operators. The comment expressed concerns that these information collection activities are unnecessary and do not contribute meaningfully to pipeline safety. The AGA Joint Comment also proposed regulatory changes to eliminate the notification requirements which would need to be addressed through the formal rulemaking process. PHMSA has previously received input on notification requirements through rulemaking and RFIs,¹ and such feedback will be considered during those proceedings.

¹ See AGA and APGA (the Associations), Comments on Request for Information (RFI), Ensuring Lawful Regulation; Reducing Regulation and Controlling Regulatory Costs, FR 2025-05557 (May 5, 2025); Interstate Natural Gas Association of America, Comments on Request for Information, Ensuring Lawful Regulation; Reducing Regulation and Controlling Regulatory Costs, FR 2025-05557 (May 5, 2025); AGA, API, AFPM, APGA, GPA Midstream, INGAA, and NGA (the Associations), Comments on Pipeline Safety: Gas Pipeline Leak Detection and Repair, FR 2023-13900 (Aug. 16, 2023).

II. Summary of Impacted Collections

Section 1320.8(d), Title 5, Code of Federal Regulations, requires PHMSA to provide interested members of the public and affected agencies an opportunity to comment on information collection and recordkeeping requests. PHMSA will request a three-year term of approval for each of the following information collection activities.

The following information is provided for each information collection: (1) Title of the information collection; (2) OMB control number; (3) Current expiration date; (4) Type of request; (5) Abstract of the information collection activity; (6) Description of affected public; (7) Estimate of total annual reporting and recordkeeping burden; and (8) Frequency of collection.

PHMSA requests comments on the following:

1. Title: Excess Flow Valves—New Customer Notifications.

OMB Control Number: 2137-0631.

Current Expiration Date: 01/31/2026.

Type of Request: Renewal, without change, of a currently approved information collection.

Abstract: This information collection covers the reporting and recordkeeping requirements for gas pipeline operators associated with customer notifications pertaining to the installation of excess flow valves. Gas pipeline operators must notify customers of their right to request the installation of excess flow valves and keep records of those notifications. This information collection request includes examples of language that can be used to notify natural gas customers of their right to request the installation of an excess flow valve. Use of the language is voluntary but would comply with Federal regulatory requirements.

Affected Public: Operators of natural gas and hazardous liquid pipeline systems and operators of liquefied natural gas facilities.

Annual Reporting and Recordkeeping Burden:

Estimated number of responses: 4,448.

Estimated annual burden hours: 4,448.

Frequency of collection: On occasion.

2. Title: Natural Gas Distribution Infrastructure Safety and Modernization Grant Program.

OMB Control Number: 2137-0641.

Current Expiration Date: 01/31/2026.

Type of Request: Renewal, without change, of a currently approved information collection.

Abstract: This information collection request covers the solicitation of applicant data from municipality- and community-owned utilities that are interested in applying to receive funds from the Natural Gas Distribution Infrastructure Safety and Modernization (NGDISM) Grant Program. Solicitation for grants under the NGDISM Grant Program is voluntary. To be eligible, however, municipality- and community-owned utilities must meet all the requirements set forth in the law. Therefore, PHMSA must collect certain information from applicants to determine eligibility and evaluate applications. PHMSA must also verify the accuracy of grant requests from approved applicants, in accordance with Title VI of the Civil Rights Act of 1964, Section 504 of the Rehabilitation Act of 1973, and other laws and regulations governing Federal financial assistance programs, including (but not limited to) the Anti-Deficiency Act, the Federal Funding Accountability and Transparency Act (FFATA), the Payment Integrity Information Act of 2019, and 2 CFR part 200, among others. This information collection request also covers the submission of post-award data and environmental assessments of awarded projects.

Affected Public: Municipality- and Community-owned Utilities.

Annual Burden:

Estimated number of responses: 1,540.

Estimated annual burden hours: 39,840.

Frequency of collection: On occasion.

3. Title: Reporting Safety-Related Conditions on Gas, Hazardous Liquid, and Carbon Dioxide Pipelines and Liquefied Natural Gas Facilities.

OMB Control Number: 2137-0578.

Current Expiration Date: 03/31/2026.

Type of Request: Renewal, without change, of a currently approved information collection.

Abstract: This mandatory information collection request covers the collection of data on safety-related conditions occurring on a pipeline. 49 U.S.C. 60102 requires each operator of a pipeline facility (except master meter operators) to submit to DOT a written report on any safety-related condition that causes or has caused a significant change or restriction in the operation of a pipeline facility or a condition that is hazardous to life, property, or the environment.

Affected Public: Operators of natural gas pipeline systems, hazardous liquid pipeline systems, and liquefied natural gas facilities.

Annual Reporting and Recordkeeping Burden:

Estimated number of responses: 174.

Estimated annual burden hours: 1,044.

Frequency of Collection: On occasion.

4. Title: National Pipeline Mapping Program.

OMB Control Number: 2137-0596.

Current Expiration Date: 03/31/2026.

Type of Request: Renewal, without change, of a currently approved information collection.

Abstract: The Pipeline Safety Improvement Act of 2002 (Pub. L. 107-355), 49 U.S.C. 60132, “National Pipeline Mapping System,” requires operators of a pipeline facility (except distribution lines and gathering lines) to provide information to the Pipeline and Hazardous Safety Administration. Each operator is required to submit geospatial data appropriate for use in the National Pipeline Mapping System or data in a format that can be readily converted to geospatial data, the name and address of the person with primary operational control (to be known as its operator), and a means for a member of the public to contact the operator for additional information about the pipeline facilities it operates. Operators will submit the requested data elements once and make annual updates to the data if necessary. These data elements strengthen the effectiveness of PHMSA's risk rankings and evaluations, which are used as a factor in determining pipeline inspection priority and frequency; allow for more effective assistance to emergency responders by providing them with a more reliable, complete data set of pipelines and facilities; and provide better support to PHMSA's inspectors by providing more accurate pipeline locations and additional pipeline-related geospatial data that can be linked to tabular data in PHMSA's inspection database.

Affected Public: Operators of natural gas and hazardous liquid pipeline systems.

Annual Reporting and Recordkeeping Burden:

Estimated number of responses: 1,346.

Estimated annual burden hours: 162,208.

Frequency of Collection: On occasion.

5. Title: Hazardous Liquid Pipeline Operator Annual Reports.

OMB Control Number: 2137-0614.

Current Expiration Date: 03/31/2026.

Type of Request: Renewal, without change, of a currently approved information collection.

Abstract: The Federal pipeline safety regulations at 49 CFR 195.58 require operators of hazardous liquid pipelines to submit specific data on the safety of their pipelines annually. This mandatory information collection requires operators to submit data on the preceding year electronically by June 15th of each calendar year. This information is used by PHMSA to identify trends in hazardous liquid pipeline accidents and to identify operators who have poor safety records.

Affected Public: Operators of hazardous liquid pipeline systems.

Annual Reporting and Recordkeeping Burden:

Estimated number of responses: 950.

Estimated annual burden hours: 18,050.

Frequency of collection: Annually.

6. Title: Hazardous Liquid Operator Notifications.

OMB Control Number: 2137-0630.

Current Expiration Date: 03/31/2026.

Type of Request: Renewal, without change, of a currently approved information collection.

Abstract: The pipeline safety regulations contained within 49 CFR part 195 require hazardous liquid operators to notify PHMSA in various instances. Section 195.414 requires hazardous liquid operators who are unable to inspect their pipeline facilities within 72 hours of an extreme weather event to notify the appropriate PHMSA Region Director as soon as practicable. Section 195.452 requires operators of pipelines that cannot accommodate an in-line inspection tool to file a petition in compliance with 49 CFR 190.9. These mandatory notifications help PHMSA to stay abreast of issues related to the health and safety of the Nation's pipeline infrastructure.

Affected Public: Operators of hazardous liquid pipeline systems.

Annual Reporting and Recordkeeping Burden:

Estimated number of responses: 110.

Estimated annual burden hours: 125.

Frequency of Collection: On occasion.

7. Title: Notification Requirements for Gas Transmission Pipelines.

OMB Control Number: 2137-0636.

Current Expiration Date: 03/31/2026.

Type of Request: Renewal, without change, of a currently approved information collection.

Abstract: A person owning or operating a natural gas pipeline facility is required to provide information to the Secretary of Transportation at the Secretary's request according to 49 U.S.C. 60117. The pipeline safety regulations contained within 49 CFR part 192 require operators to make various notifications upon the occurrence of certain events. The provisions covered under this information collection request involve notification requirements for gas transmission pipeline operators who utilize alternative or expanded technologies and analyses when conducting tests and inspections. These notification requirements are necessary to ensure safe operation of transmission pipelines, ascertain compliance with gas pipeline safety regulations, and to provide a background for incident investigations. These mandatory notifications help PHMSA to stay abreast of issues related to the health and safety of the Nation's pipeline infrastructure.

Affected Public: Operators of gas transmission pipeline systems.

Annual Reporting and Recordkeeping Burden:

Estimated number of responses: 722.

Estimated annual burden hours: 1,070.

Frequency of Collection: On occasion.

8. Title: Transportation of Hazardous Liquids by Pipeline: Record keeping and Accident Reporting.

OMB Control Number: 2137-0047.

Current Expiration Date: 04/30/2026.

Type of Request: Renewal, without change, of a currently approved information collection.

Abstract: To ensure adequate public protection from exposure to potential hazardous liquid pipeline failures, PHMSA collects information on reportable hazardous liquid pipeline accidents. This mandatory information collection covers hazardous liquid pipeline accident report requirements in 49 CFR 195.50 and general record keeping burden associated with complying with Federal hazardous liquid pipeline safety regulations in Part 195. The definition of an “accident” and the reporting criteria for submitting a Hazardous Liquid Accident Report (form PHMSA F7000-1) is detailed in 49 CFR 195.54. Section 195.54 requires hazardous liquid operators to file an accident report, as soon as practicable, but not later than 30 days after discovery of the accident, on DOT Form 7000-1, whenever there is a reportable accident.

Affected Public: Operators hazardous liquid pipeline systems.

Annual Reporting and Recordkeeping Burden:

Estimated number of responses: 1,646.

Estimated annual burden hours: 53,777.

Frequency of Collection: On occasion.

9. Title: Record keeping Requirements for Gas Pipeline Operators.

OMB Control Number: 2137-0049.

Current Expiration Date: 04/30/2026.

Type of Request: Renewal, without change, of a currently approved information collection.

Abstract: A person owning or operating a natural gas pipeline facility is required to maintain records, make reports, and provide information to the Secretary of Transportation at the Secretary's request. This mandatory information collection request would require owners and/or operators of gas pipeline systems to make and maintain records in accordance with the requirements prescribed in 49 CFR part 192 and to provide information to the Secretary of Transportation at the Secretary's request. Certain records are maintained for a specific length of time while others are required to be maintained for the life of the pipeline. PHMSA uses these records to verify compliance with Federal pipeline safety regulations and to inform the Agency of possible safety risks.

Affected Public: Operators natural, and other, gas pipeline systems.

Annual Reporting and Recordkeeping Burden:

Estimated number of responses: 3,861,842.

Estimated annual burden hours: 1,677,030.

Frequency of Collection: On occasion.

10. Title: Annual Report for Gas Distribution Operators.

OMB Control Number: 2137-0629.

Current Expiration Date: 06/30/2026.

Type of Request: Renewal, without change, of a currently approved information collection.

Abstract: This information collection request requires operators of gas distribution pipeline systems to submit annual report data to PHMSA in accordance with 49 CFR part 191 using PHMSA F 7100.1-1. The form is to be submitted once for each calendar year. The annual report form collects data about the pipe material, size, and age. The form also collects data on leaks from these systems as well as excavation damages. PHMSA uses the information to track the extent of gas distribution systems and normalize incident and leak rates.

Affected Public: Operators gas distribution pipeline systems.

Annual Reporting and Recordkeeping Burden:

Estimated number of responses: 1,446.

Estimated annual burden hours: 28,920.

Frequency of Collection: Annually.

11. Title: Incident Reports for Natural Gas Pipeline Operators.

OMB Control Number: 2137-0635.

Current Expiration Date: 06/30/2026.

Type of Request: Renewal, without change, of a currently approved information collection.

Abstract: Operators of natural gas pipelines and liquefied natural gas (LNG) facilities are required to report incidents, on occasion, to PHMSA per the requirements in 49 CFR part 191. This mandatory information collection covers the collection of incident report data from natural gas pipeline operators. This information is an essential part of PHMSA's overall effort to minimize natural gas transmission, gathering, and distribution pipeline failures.

Affected Public: Operators gas pipeline systems.

Annual Reporting and Recordkeeping Burden:

Estimated number of responses: 840.

Estimated annual burden hours: 2,927.

Frequency of Collection: On occasion.

12. Title: Annual and Incident Reports for Gas Pipeline Operators.

OMB Control Number: 2137-0522.

Current Expiration Date: 08/31/2026.

Type of Request: Renewal, without change, of a currently approved information collection.

Abstract: This mandatory information collection covers the collection of data from operators of natural gas pipelines, underground natural gas storage facilities, and LNG facilities for annual reports. Section 191.17 requires operators of the affected systems to submit an annual report by March 15, for the preceding calendar year.

Affected Public: Operators gas pipeline systems.

Annual Reporting and Recordkeeping Burden:

Estimated number of responses: 2,445.

Estimated annual burden hours: 104,596.

Frequency of Collection: On occasion.

Comments are invited on:

(a) The need for the renewal of these information collections for the proper performance of the functions of the Agency, including whether the information will have practical utility;

(b) The accuracy of the Agency's estimate of the burden of the proposed collections of information, including the validity of the methodology and assumptions used;

(c) Ways to enhance the quality, utility, and clarity of the information to be collected; and

(d) Ways to minimize the burden of the collection of information on those who are to respond, including the use of appropriate automated, electronic, mechanical, or other technological collection techniques.

Authority: The Paperwork Reduction Act of 1995; 44 U.S.C. Chapter 35, as amended, and 49 CFR 1.48.

Issued in Washington, DC under authority delegated in 49 CFR 1.97.
John A. Gale,
Director, Standards and Rulemaking Division.

[FR Doc. 2025-21491 Filed 11-26-25; 8:45 am]

BILLING CODE 4910-60-P